DEPARTMENT OF HEALTH AND HUMAN SERVICES

National Institutes of Health

National Institute of Environmental Health Sciences; Amended Notice of Meeting

Notice is hereby given of a change in the meeting of the National Advisory Environmental Health Sciences Council, February 12, 2018, 8:30 a.m. to February 13, 2018, 10:30 a.m., National Institute of Environmental Health Sciences, Building 101, Rodbell Auditorium, 111 T. W. Alexander Drive, Research Triangle Park, NC 27709, which was published in the Federal Register on January 10, 2018, 83 FR 1265.

Due to the government operating under the strong possibility of the current Continuing Resolution ending before the original scheduled Council date, it would be difficult to reschedule the grant review within the given Council round. The institute made the decision to hold an abbreviated Closed session of Council via teleconference on Wednesday, February 7, 2018, 2:00 p.m. They were counseled to post this information on their IC website. This meeting is closed to the public.

The open session of the National Advisory Environmental Health Sciences Council will be held as originally scheduled on February 12, 2018, 8:30 a.m. to 6:00 p.m. at the National Institute of Environmental Health Sciences, Building 101, Rodbell Auditorium, 111 T.W. Alexander Drive, Research Triangle Park, NC 27709. This meeting is open to the public.

Dated: January 30, 2018.
David Clary,
Program Analyst, Office of Federal Advisory Committee Policy.

[FR Doc. 2018-02183 Filed 2-2-18; 8:45 am]

BILLING CODE 4140-01-P